DEPARTMENT OF JUSTICE

Notice of Lodging of Proposed Consent Decree Under Comprehensive Environmental Response, Compensation and Liability Act

On June 22, 2016, the Department of Justice lodged a proposed Consent Judgment with the United States District Court for the Eastern District of New York in the lawsuit entitled United States v. Genesco Inc., Civil Action No. CV-09-3917.

The proposed Consent Judgment resolves certain claims of the United States, on behalf of the Environmental Protection Agency (“EPA”), under the Comprehensive Environmental Response, Compensation, and Liability Act (“CERCLA”), 42 U.S.C. 9601 et seq., in connection with the Fulton Avenue Superfund Site located in and around the Village of Garden City Park in Nassau County, New York (“Site”), against defendant Genesco Inc. (“Genesco”). The proposed Consent Judgment, inter alia, requires Genesco to implement and/or ensure implementation of the EPA's September 30, 2015 First Operable Unit (“OU1”) Record of Decision Amendment (“Amended OU1 ROD”) for the Site. The proposed Consent Judgment provides that Genesco is entitled to contribution protection as provided by section 113(f)(2) of CERCLA, 42 U.S.C. 9613(f)(2) for matters addressed by the settlement.

The publication of this notice opens a period for public comment on the Consent Judgment. Comments should be addressed to the Assistant Attorney General, Environment and Natural Resources Division, and should refer to United States v. Genesco Inc., D.J. Ref. No. 90-11-2-09329. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department Web site: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $77.75 (25 cents per page reproduction cost) payable to the United States Treasury. For a paper copy without the exhibits and signature pages, the cost is $12.00.

Robert E. Maher, Jr.,
Assistant Section Chief, Environmental Enforcement Section, Environment and Natural Resources Division.

[FR Doc. 2016-15105 Filed 6-24-16; 8:45 am]

BILLING CODE 4410-15-P